PEACE CORPS

Information Collection Request Submission for OMB Review

AGENCY: Peace Corps.

ACTION: 30-Day notice and request for comments.

SUMMARY: The Peace Corps will be submitting the following information collection request to the Office of Management and Budget (OMB) for review and approval. The purpose of this notice is to allow 30 days for public comment in the Federal Register preceding submission to OMB. We are conducting this process in accordance with the Paperwork Reduction Act of 1995 (44 U.S.C. Chapter 35).

DATES: Submit comments on or before August 29, 2018.

ADDRESSES: Comments should be addressed to Virginia Burke, FOIA/Privacy Act Officer. Virginia Burke can be contacted by telephone at 202-692-1887 or email at pcfr@peacecorps.gov. Email comments must be made in text and not in attachments.

FOR FURTHER INFORMATION CONTACT: Virginia Burke, FOIA/Privacy Act Officer. Virginia Burke can be contacted by telephone at 202-692-1887 or email at pcfr@peacecorps.gov.

SUPPLEMENTARY INFORMATION:

Title: RPCV Event Bulletin Board.

OMB Control Number: 0420-****.

Type of Request: New.

Affected Public: Individuals.

Respondents' Obligation to Reply: Voluntary.

Burden to the Public:

Estimated Burden (Hours) of the Collection of Information:

a. Number of Rspondents: 50.

b. Frequency of Response: 10 times.

c. Completion Time: 5 minutes.

d. Annual Burden Hours: 42 hours.

General Description of Collection: The event information submitted via the form will be used to (1) populate events on the RPCV Events Bulletin Board web page; (2) assess the events for compliance with the Peace Corps statutory authority, regulations, and policy; (3) enable 3GL to better understand and support activities of RPCV groups related to the Third Goal and career; and (4) enable University Programs to better understand and support activities of the Paul. D. Coverdell Fellows partner universities related to RPCV career development.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice was issued in Washington, DC, on July 19, 2018.
Virginia Burke,
FOIA/Privacy Act Officer, Management.

[FR Doc. 2018-16151 Filed 7-27-18; 8:45 am]

BILLING CODE 6051-01-P